DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of June 1, 2022 through June 30, 2022.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,315 | BCS Automotive Interface Systems | Winona, MN | 6/2/2022
98,316 | Draken International LLC | Lakeland, FL | 6/2/2022
98,317 | Peloton Interactive, Inc | Lakeland, FL | 6/2/2022
98,318 | Tree Top, Inc | Medford, OR | 6/2/2022
98,319 | EcoWater Systems LLC | Woodbury, MN | 6/3/2022
98,320 | Otis Worldwide Corporation | Farmington, CT | 6/3/2022
98,321 | Premier Glass USA, LLC | Park Hills, MO | 6/3/2022
98,322 | Eagle's Catch, LLLP | Ellsworth, IA | 6/6/2022
98,323 | Massachusetts Mutual Life Insurance Company | Springfield, MA | 6/6/2022
98,324 | Palisades Power Plant | Covert, MI | 6/7/2022
98,325 | Aisin Electronics, Inc | Stockton, CA | 6/10/2022
98,326 | Electronic Arts Inc | Austin, TX | 6/13/2022
98,327 | Heartland Construction | Georgetown, TX | 6/13/2022
98,328 | Parkdale Mills Plant #39 | Alexander City, AL | 6/13/2022
98,329 | Kerry Inc | Clark, NJ | 6/14/2022
98,330 | Thule, Inc | Seymour, CT | 6/14/2022
98,331 | Tripwire | Portland, OR | 6/14/2022
98,332 | Medline Industries, Inc | Lithia Springs, GA | 6/15/2022
98,333 | Parkdale Mills | Galax, VA | 6/15/2022
98,334 | SASOL Chemicals (USA) LLC, Oil City Plant, Sasol (USA) Corporation | Oil City, PA | 6/15/2022
98,335 | BioReliance Corporation | Rockville, MD | 6/17/2022
98,336 | Imerys Carbonates USA | Cockeysville, MD | 6/17/2022
98,337 | Wells Fargo | Frederick, MD | 6/17/2022
98,338 | Wisetek Solutions | Hyattsville, MD | 6/17/2022
98,339 | Boston Scientific Company | San Jose, CA | 6/22/2022
98,340 | Small Wells Vehicle Electronics | Fond du Lac, WI | 6/22/2022
98,341 | Advanced Input Systems | Frankenmuth, MI | 6/23/2022
98,342 | R.A. Phillips Industries, Inc | Santa Fe Springs, CA | 6/23/2022
98,343 | Prevost Car, Prevost Canada, Volvo Group | Plattsburgh, NY | 6/23/2022
98,344 | PayPal, Inc | LaVista, NE | 6/24/2022
98,345 | IEE Sensing, Inc | Auburn Hills, MI | 6/27/2022
98,346 | Urschel Tool Company | Cranston, RI | 6/28/2022
98,347 | Vestas Towers America, Inc | Pueblo, CO | 6/29/2022
98,348 | Waupaca Foundry, Inc | Etowah, TN | 6/29/2022
98,349 | Medical Component Specialists, Inc | Providence, RI | 6/30/2022
98,350 | Michael Food | David City, NE | 6/30/2022
98,351 | Mitsubishi Electric Automotive America, Inc | Maysville, KY | 6/30/2022
98,352 | Solar Seal LLC | South Easton, MA | 6/30/2022

A record of these investigations and petitions filed are available, subject to redaction, on the Department's website https://www.dol.gov/agencies/eta/tradeact under the searchable listing or by calling the Office of Trade Adjustment Assistance toll free at 888-365-6822.

Signed at Washington, DC, this 7th day of July 2022.
Hope D. Kinglock,
Certifying Officer, Office of Trade Adjustment Assistance.

[FR Doc. 2022-15254 Filed 7-15-22; 8:45 am]

BILLING CODE 4510-FN-P